DEPARTMENT OF DEFENSE

Department of the Army

[Docket ID USA-2018-HQ-0004]

Proposed Collection; Comment Request

AGENCY: Office of the Administrative Assistant of the Secretary of the Army, DoD.

ACTION: Information collection notice.

SUMMARY: In compliance with the Paperwork Reduction Act of 1995, the Office of the Administrative Assistant of the Secretary of the Army announces a proposed public information collection and seeks public comment on the provisions thereof. Comments are invited on: Whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by April 30, 2018.

ADDRESSES: You may submit comments, identified by docket number and title, by any of the following methods:

• Federal eRulemaking Portal: http://www.regulations.gov. Follow the instructions for submitting comments.

• Mail: Department of Defense, Office of Chief Management Officer, Directorate for Oversight and Compliance, 4800 Mark Center Drive, Mailbox #24, Suite 08D09B, Alexandria, VA 22350-1700.

Instructions: All submissions received must include the agency name, docket number and title for this Federal Register document. The general policy for comments and other submissions from members of the public is to make these submissions available for public viewing on the internet at http://www.regulations.gov as they are received without change, including any personal identifiers or contact information.

Any associated form(s) for this collection may be located within this same electronic docket and downloaded for review/testing. Follow the instructions at http://www.regulations.gov for submitting comments. Please submit comments on any given form identified by docket number, form number, and title.

FOR FURTHER INFORMATION CONTACT: To request more information on this proposed information collection or to obtain a copy of the proposal and associated collection instruments, please write to the to the Department of the Army, Institute for Water Resources, Corps of Engineers Waterborne Commerce Statistics Center, P.O. Box 61280, ATTN: Christopher (Dale) Brown, New Orleans, LA 70161-1280, or call Department of the Army Reports Clearance Officer at (703) 428-6440.

SUPPLEMENTARY INFORMATION:

Title; Associated Form; and OMB Number: Service Members Transitioning from Active Duty to Veterans Status; OMB Control Number 0702-XXXX.

Needs and Uses: This study, exploratory in nature, is designed to capture baseline data prior to transition and at three subsequent data points after the transition out of service. The purpose of data capture before, during, and after transition is to allow the researchers to monitor how transition stressors change over time and what factors might influence their course. This information will be enormously useful in attempts to design and implement interventions that might target these stressors.

Participants will be recruited during a set nine month window in which Service Members have self-identified as transitioning out of the service within the six months. Participation in the study is voluntary and participants will be consented twice, once at baseline (time point 1) while the Service Member is still active duty and then again at time point 2 as civilians. This burden information only accounts for the public being affected.

Affected Public: Individuals and Households.

Annual Burden Hours: 350 Hours.

Number of Respondents: 600.

Responses per Respondent: 1.

Annual Responses: 600.

Average Burden per Response: 35 minutes.

Frequency: Annually.

Dated: February 23, 2018.
Aaron Siegel,
Alternate OSD Federal Register Liaison Officer, Department of Defense.

[FR Doc. 2018-04059 Filed 2-27-18; 8:45 am]

BILLING CODE 5001-06-P